SECURITIES AND EXCHANGE COMMISSION

[Release No. 34-86835; File No. SR-BOX-2019-22]

Self-Regulatory Organizations; BOX Exchange LLC; Notice of Withdrawal of Proposed Rule Change To Amend the Fee Schedule on the BOX Options Market LLC Facility To Establish BOX Connectivity Fees for Participants and Non-Participants Who Connect to the BOX Network

August 30, 2019.

On June 26, 2019, BOX Exchange LLC (“Exchange”) filed with the Securities and Exchange Commission (“Commission”), pursuant to Section 19(b)(1) of the Securities Exchange Act of 1934 (“Act”),¹ and Rule 19b-4 thereunder,² a proposed rule change to amend the Exchange's fee schedule to establish certain connectivity fees and reclassify its high speed vendor feed connection as a port fee. The proposed rule change was immediately effective upon filing with the Commission pursuant to Section 19(b)(3)(A) of the Act.³ The proposed rule change was published for comment in the Federal Register on July 15, 2019.⁴ The Commission received two comment letters on the proposal.⁵ On August 22, 2019, the Exchange withdrew the proposed rule change (SR-BOX-2019-22).

¹ 15 U.S.C. 78s(b)(1).

² 17 CFR 240.19b-4.

³ 15 U.S.C. 78s(b)(3)(A).

⁴ See Securities Exchange Act Release No. 86335 (July 9, 2019), 84 FR 33788.

⁵ See Letters to Vanessa Countryman, Secretary, Commission, from Theodore R. Lazo, Managing Director and Associate General Counsel, and Ellen Greene, Managing Director, Financial Services Operations, Securities Industry and Financial Markets Association, dated August 5, 2019 and Tyler Gellasch, Executive Director, Healthy Markets Association, dated August 5, 2019.

⁶ 17 CFR 200.30-3(a)(12).

For the Commission, by the Division of Trading and Markets, pursuant to delegated authority.⁶
Jill M. Peterson,
Assistant Secretary.

[FR Doc. 2019-19223 Filed 9-5-19; 8:45 am]

BILLING CODE 8011-01-P